DEPARTMENT OF ENERGY

Federal Energy Regulatory Commission

Combined Notice of Filings #1

Take notice that the Commission received the following electric corporate filings:

Docket Numbers: EC19-142-000.

Applicants: Energy Center Dover LLC, DB Energy Assets, LLC.

Description: Supplement to September 26, 2019 Joint Application for Authorization Under Section 203 of the Federal Power Act, et al. of Energy Center Dover LLC, et al.

Filed Date: 10/11/19.

Accession Number: 20191011-5109.

Comments Due: 5 p.m. ET 10/25/19.

Take notice that the Commission received the following electric rate filings:

Docket Numbers: ER16-1255-014; ER15-2679-013; ER15-2680-013; ER15-762-017; ER16-1609-007; ER16-1738-011; ER16-1901-011; ER16-1955-011; ER16-2201-010; ER16-2224-010; ER16-2541-010; ER16-2578-011; ER16-468-011; ER16-474-012; ER16-890-012; ER17-1864-009; ER17-1871-009; ER17-1909-009; ER17-306-010; ER17-544-010; ER18-1667-004; ER18-2327-003; ER18-2492-005; ER19-846-004; ER19-847-004.

Applicants: Antelope Big Sky Ranch LLC, Antelope DSR 1, LLC, Antelope DSR 2, LLC, Antelope DSR 3, LLC, Antelope Expansion 2, LLC, Bayshore Solar B, LLC, Bayshore Solar A, LLC, Bayshore Solar C, LLC, Beacon Solar 1, LLC, Beacon Solar 3, LLC, Beacon Solar 4, LLC, Central Antelope Dry Ranch C LLC, Elevation Solar C LLC, FTS Master Tenant 1, LLC, FTS Master Tenant 2, LLC, ID Solar 1, LLC, Latigo Wind Park, LLC, North Lancaster Ranch LLC, Pioneer Wind Park I, LLC, Riverhead Solar Farm, LLC, San Pablo Raceway, LLC, Sandstone Solar LLC, Sierra Solar Greenworks LLC, Solverde 1, LLC, Summer Solar LLC, Western Antelope Blue Sky Ranch A LLC, Western Antelope Blue Sky Ranch B LLC, Western Antelope Dry Ranch LLC, 65HK 8me LLC, 67RK 8me LLC, 87RL 8me LLC.

Description: Supplement to June 28, 2019 Triennial Market Power Analysis for the Northwest Region of Antelope Big Sky Ranch LLC, et al.

Filed Date: 10/15/19.

Accession Number: 20191015-5371.

Comments Due: 5 p.m. ET 11/5/19.

Docket Numbers: ER19-2383-002.

Applicants: AEP Texas Inc.

Description: Tariff Amendment: SA772 AEPTX-Karankawa Wind Interconnection Agr 1st Amend & Restat—Amendment to be effective 6/20/2019.

Filed Date: 10/16/19.

Accession Number: 20191016-5160.

Comments Due: 5 p.m. ET 11/6/19.

Docket Numbers: ER19-956-001.

Applicants: Midcontinent Independent System Operator, Inc., ITC Midwest LLC.

Description: Tariff Amendment: 2019-10-16_Amendment to ITCM Intangible Plant Filing to be effective 1/1/2020.

Filed Date: 10/16/19.

Accession Number: 20191016-5056.

Comments Due: 5 p.m. ET 10/28/19.

Docket Numbers: ER20-122-000.

Applicants: Crowned Ridge Interconnection, LLC.

Description: Baseline eTariff Filing: Crowned Ridge Interconnection, LLC Application for Market-Based Rates to be effective 12/4/2019.

Filed Date: 10/15/19.

Accession Number: 20191015-5323.

Comments Due: 5 p.m. ET 11/5/19.

Docket Numbers: ER20-123-000.

Applicants: J. Aron & Company LLC.

Description: § 205(d) Rate Filing: CIS & NW Cat 2 Notice to be effective 10/16/2019.

Filed Date: 10/15/19.

Accession Number: 20191015-5358.

Comments Due: 5 p.m. ET 11/5/19.

Docket Numbers: ER20-124-000.

Applicants: Evergy Missouri West, Inc.

Description: Tariff Cancellation: Request for Cancellation, KCP&L GMO Vol. 28 (MBR) Tariff Title Database to be effective 12/16/2019.

Filed Date: 10/15/19.

Accession Number: 20191015-5359.

Comments Due: 5 p.m. ET 11/5/19.

Docket Numbers: ER20-125-000.

Applicants: Evergy Missouri West, Inc.

Description: Tariff Cancellation: Request for Cancellation, KCP&L GMO Vol. 33 (CB) Tariff Title Database to be effective 12/16/2019.

Filed Date: 10/15/19.

Accession Number: 20191015-5361.

Comments Due: 5 p.m. ET 11/5/19.

Docket Numbers: ER20-126-000.

Applicants: PJM Interconnection, L.L.C.

Description: § 205(d) Rate Filing: Amendment to Original ISA No. 4401, Queue No. AA1-095 to be effective 1/25/2016.

Filed Date: 10/16/19.

Accession Number: 20191016-5077.

Comments Due: 5 p.m. ET 11/6/19.

Docket Numbers: ER20-127-000.

Applicants: PacifiCorp.

Description: § 205(d) Rate Filing: BPA Construct Agmt for Lost Creek BAA Move to be effective 12/16/2019.

Filed Date: 10/16/19.

Accession Number: 20191016-5105.

Comments Due: 5 p.m. ET 11/6/19.

Docket Numbers: ER20-128-000.

Applicants: PJM Interconnection, L.L.C.

Description: § 205(d) Rate Filing: Orginal ISA SA No. 5492; Queue No. AE2-272 to be effective 9/17/2019.

Filed Date: 10/16/19.

Accession Number: 20191016-5106.

Comments Due: 5 p.m. ET 11/6/19.

Take notice that the Commission received the following qualifying facility filings:

Docket Numbers: QF20-57-000.

Applicants: Eco Green Generation LLC.

Description: Form 556 of Eco Green Generation LLC [Clean Power #5] under QF20-56, et al.

Filed Date: 10/15/19.

Accession Number: 20191015-5400.

Comments Due: Non Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 16, 2019.
Nathaniel J. Davis, Sr.,
Deputy Secretary.

[FR Doc. 2019-22968 Filed 10-21-19; 8:45 am]

BILLING CODE 6717-01-P